DEPARTMENT OF HEALTH AND HUMAN SERVICES

Centers for Disease Control and Prevention

[Program Announcement 02195]

Linkages of Acute Care and Emergency Medical Services to State and Local Injury Prevention Programs; Notice of Availability of Funds

A. Purpose

The Centers for Disease Control and Prevention (CDC) announces the availability of fiscal year (FY) 2002 funds for a cooperative agreement program for Linkages of Acute Care and Emergency Medical Services to State and Local Injury Prevention Programs. This program addresses the “Healthy People 2010” focus area of Injury and Violence Prevention.

The purpose of this program is to support collaboration between national organizations of professionals in acute medical care, trauma, emergency medical services (EMS) with State and local injury prevention programs and CDC (Part 1). The recipient of Part 2 of this cooperative agreement assumes a coordination role among award recipients, to assure successful collaborative activities. This cooperative agreement will facilitate the development of relationships that will be critical during routine operations of acute care, trauma, and EMS services, and in response to terrorism or disasters.

Measurable outcomes of this program will be in alignment with the National Center for Injury Prevention and Control (NCIPC) performance goal of building State capacity to enhance injury prevention efforts.

B. Authority and Catalog of Federal Domestic Assistance Number

This program announcement is authorized under 391 (a) [42 U.S.C. 280b] of the Public Health Service Act. The catalog of Federal Domestic Assistance number is 93.136.

C. Eligible Applicants

Assistance will be provided only to national nonprofit and for profit professional organizations, with at least 25 members, that address either acute care, trauma, or EMS.

Since the ultimate purpose of this program is to develop the capacity of local injury prevention programs to respond effectively to situations of national disaster or emergency, assistance is being provided to those organizations (acute care, trauma or EMS) best equipped to develop that capacity.

Note: Public law 104-65 states that an organization described in section 501(c)(4) of the Internal Revenue Code of 1986 which engages in lobbying activities shall not be eligible for the receipt of Federal funds constituting an award, grant, contract, loan, or any other form.

D. Availability of Funds

Approximately $450,000 is available in FY 2002 to fund approximately three to six awards. It is expected that the average award will be $75,000, ranging from $60,000 to $125,000 under Part 1. Applicants under Part 2 of this announcement are eligible for an additional award, approximately $50,000 to 75,000, to conduct coordination activities as described in “Recipient Activities—Part 2” below.

Note: Applicants for Part 2 funding must apply for and be approved for funding under Part 1 of this announcement.

It is expected that the awards will begin on or about September 30, 2002, and will be made for a 12-month budget period, for a one-year project period. Funding estimates may change.

Use of Funds

Grant funds will not be made available to support the provision of direct care. Eligible applicants may enter into contracts, including consortia agreements (as set forth in the PHS Grants Policy Statement, dated April 1, 1994), as necessary to meet the requirements of the program and strengthen the overall application.

E. Program Requirements

In conducting activities to achieve the purpose of this program, the recipient will be responsible for the activities under 1. “Recipient Activities,” and CDC will be responsible for the activities listed under “2. CDC Activities.”

1. Recipient Activities—Part 1

a. Develop a project that will build relationships with State and local injury prevention programs. Possible projects include:

1. Collecting data or information about relationships between the national organization's membership or State and local chapters and State and local injury programs, for use in planning purposes, or

2. Developing and implementing a planning process to build relationships with State and local injury programs, or

3. Developing web-based or other information or communications linkages that result in increased information sharing among these organizations, or

4. Holding meetings or other events, or conducting joint projects at the national level or in selected States or cities to build relationships with State and local injury programs.

b. Communicate to members of the national organization about the importance of linkages with State and local injury prevention programs.

c. Work with State and/or local chapters and affiliates of the national organization to build awareness of potential benefits of linkages with State and local injury prevention programs.

d. Identify a person or persons to serve as liaisons to CDC and to organizations affiliated with as well as organizations representing local health officials and other governmental and non-governmental prevention partners for timely distribution and dissemination of Injury program and policy information.

e. Collaborate with CDC to: (a) Provide perspectives on policy formulation and (b) communicate rapidly with, and obtain and share feedback from, members of the national professional organization.

f. At project initiation, participate in a CDC-organized conference call with other funded award recipients to identify potential collaboration opportunities, and in conference calls among other CDC grantees as necessary.

g. Work with the coordinating center funded under Part 2 below, including participating in conference calls, meetings, and other joint activities.

Recipient Activities—Part 2

a. Develop a plan of outreach and coordination to facilitate linkages between acute care, trauma, and EMS organizations and State and local injury programs. This may include meetings at the national, State, or local level.

b. Conduct a periodic formal or informal information gathering activity with these organizations and State and local injury programs, regarding the status of their linkages with State and local injury control programs, obstacles to building of relationships, and opportunities for collaboration.

c. Conduct an assessment to determine what needs exist following implementation of efforts, and how to best fill those needs.

2. CDC Activities (applicable to both Part 1 and Part 2)

a. Provide technical advice in the development of systems to identify potential issues of interest.

b. Provide consultation and scientific and technical assistance in the planning of the project.

c. Work with the organization funded under Part 2 to identify opportunities for collaboration.

d. Provide program and policy information for dissemination to award recipients.

F. Content

Applications

The Program Announcement title and number must appear in the application. Use the information in the Program Requirements, Other Requirements, and Evaluation Criteria sections to develop the application content. Your application will be evaluated on the criteria listed, so it is important to follow them in laying out your program plan. The narrative should be no more than six double-spaced pages, printed on one side, with one-inch margins, and unreduced font. Applicants interested in conducting optional (Part 2) coordination activities may submit a narrative not to exceed nine pages.

The narrative should consist of, at a minimum, a plan, objectives, methods, evaluation and budget addressing the “Recipient Activities” above.

G. Submission and Deadline

Application

Submit the original and two copies of PHS 5161-1 (OMB Number 0920-0428). Applications must be submitted in hard copy and may not be submitted electronically. Forms are available in the application kit and at the following Internet address: http://www.cdc.gov/od/pgo/forminfo.htm

Application forms must be submitted in the following order:

Cover Letter

Table of Contents

Application

Budget Information Form

Budget Justification

Checklist

Assurances

Certifications

Disclosure Form

Indirect Cost Rate Agreement (if applicable)

Narrative

The application must be received by 5:00 p.m. Eastern Time August 2, 2002. Submit the application to: Technical Information Management, PA 02195, Procurement and Grants Office, Centers for Disease Control and Prevention (CDC), 2920 Brandywine Road, Room 3000, Atlanta, GA 30341-4146.

Deadline: Applications shall be considered as meeting the deadline if they are received before 5:00 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet the submission requirements.

H. Evaluation Criteria

Application—Part 1

Applicants are required to provide Measures of Effectiveness that will demonstrate the accomplishment of the various identified objectives of the cooperative agreement. Measures of Effectiveness must relate to the performance goal as stated in section “A. Purpose” of this announcement. Measures must be objective and quantitative and must measure the intended outcome. These Measures of Effectiveness shall be submitted with the application and shall be an element of evaluation.

Each application will be evaluated individually against the following criteria by an independent review group appointed by CDC.

1. Staffing, Facilities, and Management (35 points)

The degree to which the applicant provides evidence of an ability to carry out the proposed project, the extent to which the applicant institution documents the capability to achieve objectives of this project, and the extent to which professional personnel involved in this project are qualified, including evidence of past achievements appropriate to this project.

2. Program Plan (25 points)

The adequacy of the applicant's plan for administering the proposed project.

3. Objectives (20 points)

The degree to which proposed objectives are clearly stated, realistic, measurable, time-phased, related to the purpose of this project, and regularly monitored and evaluated.

4. Background (15 points)

The extent to which the applicant understands the requirements, problems, objectives, complexities, and interactions required of this cooperative agreement.

5. Measures of Effectiveness (5 points)

The extent to which the applicant's Measures of Effectiveness are clearly designed to measure the intended outcome.

6. Budget (not scored)

Extent to which the estimated cost to the Government of the project is reasonable and clearly justified.

Application—Part 2

In addition to addressing the criteria for Part 1 above, applicants for Part 2 funding must separately address the following criteria:

1. Outreach Plan (40 points)

The adequacy of the plan of outreach and coordination to facilitate linkages between acute care, trauma, and EMS organizations and State and local injury programs.

2. Information gathering (30 points)

The adequacy of the applicant's plan to conduct a periodic survey of these organizations regarding the status of linkages with and local injury control programs.

3. Needs Assessment (30 points)

The adequacy of the applicant's plan to conduct an assessment to determine what needs exist following implementation of efforts, and make recommendations as to how best to fill those needs.

I. Other Requirements

Technical Reporting Requirements

Provide CDC with original plus two copies of:

1. Quarterly progress reports. (The progress report will include a data requirement that demonstrates measures of effectiveness.)

2. Financial status report, no more than 90 days after the end of the budget period.

3. Final financial status and performance reports, no more than 90 days after the end of the project period.

Send all reports to the Grants Management Specialist identified in the “Where to Obtain Additional Information” section of this announcement.

The following additional requirements are applicable to this program. For a complete description of each, see Attachment 1 of the application kit.

AR-9 Paperwork Reduction Act Requirements

AR-10 Smoke-Free Workplace Requirements

AR-11 Healthy People 2010

AR-12 Lobbying Restrictions

AR-13 Prohibition on Use of CDC Funds for Certain Gun Control Activities

AR-14 Accounting System Requirements

AR-15 Proof of Non-Profit Status

J. Where To Obtain Additional Information

This and other CDC announcements, the necessary applications, and associated forms can be found on the CDC home page Internet address— http://www.cdc.gov Click on “Funding” then “Grants and Cooperative Agreements.”

For business management assistance, contact: Van A. King, Grants Management Specialist, Procurement and Grants Office, Centers for Disease Control and Prevention, 2920 Brandywine Road, Room 3000, Atlanta, GA 30341-4146, Telephone number (770) 488-2751, email address: vbk5@cdc.gov.

For program technical assistance, contact: Doug Browne, Project Officer, National Center for Injury Prevention and Control, Centers for Disease Control and Prevention, 4770 Buford Highway, Mailstop F-41, Atlanta, GA 30341, Telephone number (770) 488-1569, email address: drb7@cdc.gov.

Dated: June 21, 2002.
Sandra R. Manning,
CGFM, Director, Procurement and Grants Office, Centers for Disease Control and Prevention (CDC).

[FR Doc. 02-16234 Filed 6-27-02; 8:45 am]

BILLING CODE 4163-18-P